DEPARTMENT OF HOMELAND SECURITY

Bureau of Customs and Border Protection

Notice of Cancellation of Customs Broker National Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker national permits are canceled without prejudice.

Port | Permit No. | Name
Savannah | 99-00012 | D.J. Powers Company, Inc.
New York | 99-00017 | Freight Brokers International, Inc.
Minneapolis | 99-00024 | Lynx International, Inc.
Cleveland | 99-00033 | AW Fenton Company, Inc.
Champlain | 99-00041 | Trans-Border Customs Services, Inc.
Cleveland | 99-00068 | UPS Customhouse Brokerage, Inc.
Tampa | 99-00073 | Corie Louise Hall.
El Paso | 99-00096 | Rudolph Miles & Sons, Inc.
New York | 99-00098 | Rennie B. Alston.
Los Angeles | 99-00111 | Yamato Customs Brokers USA, Inc.
New York | 99-00118 | Kamden International Shipping, Inc.
Chicago | 99-00123 | Jay A. Mittleman.
San Francisco | 99-00129 | Neill F. Stroth.
Portland, OR | 99-00130 | Edward M. Jones & Company.
Charlotte | 99-00142 | Drawback Central, Inc.
New York | 99-00146 | John P. O'Donoghue.
St. Louis | 99-00149 | Katharine A. Lappin.
Savannah | 99-00154 | Jack L. Brown.
Savannah | 99-00155 | John S. James Company.
Chicago | 99-00162 | Rotra Brokerage Services, Inc.
Cleveland | 99-00164 | Joseph Bonvissuto.
Miami | 99-00172 | Sig M Glukstad, Inc.
Atlanta | 99-00180 | Allstates Customs Brokerage, Inc.
Buffalo | 99-00196 | Ameri-Can Customshouse Brokers, Inc.
New York | 99-00212 | Maria DaRocha.
Houston | 99-00217 | K & K Express, Inc.
Chicago | 99-00220 | Savino Del Bene, Inc.
Cleveland | 99-00232 | Maarten Intermodal Expeditors.
New York | 99-00233 | Charles M. Shanley.
New York | 99-00245 | Serko & Simon International Trade Services, Inc.
Norfolk | 99-00248 | Candice K. Blankenship.
Norfolk | 99-00255 | C & W Transport & Customs Brokers, Inc.
Los Angeles | 99-00279 | Danache & Associates, Inc.
San Francisco | 99-00282 | Su Mei-hsia Sun.
Savannah | 99-00285 | Page International, Inc.
Cleveland | 99-00298 | Computrex International Services, Inc.
San Francisco | 99-00313 | International Service Group, Inc.
Portland, OR | 99-00320 | Mary Sue McNary.
Charlotte | 99-00328 | James L. Garst, III.
Miami | 99-00338 | Customs Services International, Inc.
New York | 99-00369 | Michael Girsch.
Houston | 99-00373 | Bill Potts and Company.
New York | 99-00393 | Karl Schroff & Associates, Inc.
Philadelphia | 99-00403 | William J. O'Donnell.
Chicago | 99-00404 | James F. Welton.
Houston | 99-00418 | James F. Mooring.
Portland, OR | 99-00419 | American Brokerage International, Inc.
El Paso | 99-00431 | Robert Brown.
Charleston | 99-00438 | Stuart Logistics, Inc.
El Paso | 99-00441 | Grace Warner Fitzgerald.
Milwaukee | 99-00455 | BM & P International, Inc.
Los Angeles | 99-00486 | William A. Flegenheimer.
Miami | 99-00508 | Alberto A. Rodriguez.
Los Angeles | 99-00532 | John Arthur Hanson.
New York | 99-00538 | Viking Sea Freight, Inc.
Washington, DC | 99-00551 | GPS Custom House Brokerage, Inc.
Nogales | 99-00570 | Capin Brokerage, Inc.
Norfolk | 99-00571 | Limitless International, Inc.
Los Angeles | 99-00580 | Florence S. Hillman.
Miami | 99-00581 | Karma Ellen Ruiz.
Los Angeles | 99-00584 | FRT International, Inc.
Charlotte | 99-00588 | JKL Brokerage, Inc.
El Paso | 99-00596 | Brown, Alcantar & Brown, Inc.
New York | 99-00598 | Maribel International Freight Forwarders, Inc.
Miami | 99-00601 | Savino Del Bene (Florida), Inc.
New York | 99-00607 | Raisa Kartashevsky.
New York | 99-00616 | Pegasus Shipping, Inc.
Chicago | 99-00618 | Marshall Oh.
New York | 99-00622 | Ana Link, Ltd.
New York | 99-00624 | JH Bachmann, Inc.
Atlanta | 99-00626 | Patricia Ann Sanders.
El Paso | 99-00639 | Cordova Brokerage International, Inc.
New York | 99-00646 | Cavalier International Air Freight, Inc.
New York | 99-00653 | Coronet Brokers Corporation.
Charleston | 99-00656 | SeaMac Shipping, Inc.
New York | 99-00666 | All-Ways Forwarding of N.Y., Inc.
New York | 99-00672 | All-Pack Express, Inc.

Dated: April 26, 2004.
Jayson P. Ahern,
Assistant Commissioner, Office of Field Operations.

[FR Doc. 04-10063 Filed 5-3-04; 8:45 am]

BILLING CODE 4820-02-P